DEPARTMENT OF COMMERCE.

International Trade Administration

[A-570-832]

Pure Magnesium from the People's Republic of China: Extension of Time Limit for the Preliminary Results of Antidumping Duty Administrative Review

AGENCY: Import Administration, International Trade Administration, Department of Commerce.

EFFECTIVE DATE: January 13, 2006.

FOR FURTHER INFORMATION CONTACT: Joe Freed or Hua Lu, AD/CVD Operations, Office 8, Import Administration, International Trade Administration, U.S. Department of Commerce, 14th Street and Constitution Avenue, NW., Washington, DC 20230; telephone (202) 482-3818 or (202) 482-6478, respectively.

Background

On May 2, 2005, the Department of Commerce (“the Department”) published in the Federal Register a notice for an opportunity to request an administrative review of the antidumping duty order on pure magnesium from the People's Republic of China (“PRC”). See Antidumping or Countervailing Duty Order, Finding, or Suspended Investigation; Opportunity to Request Administrative Review, 70 FR 22631 (May 2, 2005). As a result of a request for a review filed by Tianjin Magnesium International Co., Ltd. (“TMI”) on May 26, 2005, the Department published in the Federal Register a notice of initiation of an administrative review for the period May 1, 2004, through April 30, 2005. See Initiation of Antidumping and Countervailing Duty Administrative Reviews, 70 FR 37749 (June 30, 2005). The preliminary results of review are currently due no later than January 31, 2006.

Extension of Time Limit for Preliminary Results

Section 751(a)(3)(A) of the Tariff Act of 1930, as amended (“the Act”), requires the Department to issue preliminary results within 245 days after the last day of the anniversary month of an order. However, if it is not practicable to complete the review within this time period, section 751(a)(3)(A) of the Act allows the Department to extend the time period to a maximum of 365 days. Completion of the preliminary results of this review within the 245-day period is not practicable because the Department needs additional time to analyze information pertaining to the respondent's sales practices, factors of production, and corporate relationships, and to issue and review responses to supplemental questionnaires.

Because it is not practicable to complete this review within the time specified under the Act, we are extending the time period for issuing the preliminary results of review by 60 days until April 1, 2006, in accordance with section 751(a)(3)(A) of the Act. Further, because April 1, 2006, falls on a Saturday, the preliminary results will be due on April 3, 2006, the next business day. The final results continue to be due 120 days after the publication of the preliminary results.

This notice is published pursuant to sections 751(a) and 777(i) of the Act.

Dated: January 9, 2006.
Stephen J. Claeys,
Deputy Assistant Secretary for Import Administration.

[FR Doc. E6-334 Filed 1-12-06; 8:45 am]

BILLING CODE 3510-DS-S